ENVIRONMENTAL PROTECTION AGENCY

40 CFR Part 52

[EPA-R02-OAR-2024-0256; FRL-12021-01-R2]

Air Plan Approval; New Jersey; Update to Materials Incorporated by Reference

AGENCY: Environmental Protection Agency (EPA).

ACTION: Final rule; administrative change.

SUMMARY: The Environmental Protection Agency (EPA) is updating the regulatory materials incorporated by reference into the New Jersey State Implementation Plan (SIP). The regulations affected by this action have been previously submitted by the New Jersey Department of Environmental Protection (NJDEP) and approved by the EPA in prior rulemakings. The EPA is also notifying the public of corrections to the Code of Federal Regulations (CFR) tables that identify material incorporated by reference into the New Jersey SIP. This update affects the materials that are available for public inspection at the EPA Regional Office.

DATES: This action is effective July 16, 2025.

ADDRESSES: SIP materials whose incorporated by reference into 40 CFR part 52 is finalized through this action are available for inspection at the following locations: online at https://www.regulations.gov in the docket for this action, by appointment at the Environmental Protection Agency, Region 2, 290 Broadway, New York, New York 10007-1866. For information on the availability of this material at the EPA Regional Office, please contact the person in the FOR FURTHER INFORMATION CONTACT section of this document.

FOR FURTHER INFORMATION CONTACT: Linda Longo, Air Programs Branch, Environmental Protection Agency, Region 2 Office, 290 Broadway, 25th Floor, New York, New York 10007-1866, telephone number: (212) 637-3565, email address: longo.linda@epa.gov.

SUPPLEMENTARY INFORMATION:

I. Background

Each state has a SIP containing the control measures and strategies used to attain and maintain the national ambient air quality standards (NAAQS). The SIP is extensive, containing such elements as air pollution control regulations, emission inventories, monitoring networks, attainment demonstrations, and enforcement mechanisms.

Each state must formally adopt the control measures and strategies in the SIP after the public has had an opportunity to comment on them and then submit the proposed SIP revisions to the EPA. Once these control measures and strategies are approved by the EPA, and after notice and comment, they are incorporated into the federally approved SIP and are identified in part 55, “Approval and Promulgation of Implementation Plans,” Title 40 of the Code of Federal Regulations (40 CFR part 52). The full text of the state regulation approved by the EPA is not reproduced in its entirety in 40 CFR part 52 but is “incorporated by reference.” This means that EPA has approved a given state regulation or specified changes to a given regulation with a specific effective date. The public is referred to the location of the full text version should they want to know which measures are contained in each SIP. The information provided allows the EPA and the public to monitor the extent to which a state implements a SIP to attain and maintain the NAAQS and to take enforcement action for violations of the SIP.

The SIP is a living document which the state can revise as necessary to address the unique air pollution problems in the state. Therefore, the EPA from time to time must take action on proposed revisions containing new and/or revised regulations. A submission from a state can revise one or more rules in their entirety or portions of rules. The state indicates the changes in the submission (such as by using redline/strikethrough text) and the EPA then takes action on the requested changes. The EPA establishes a docket for its actions using a unique Docket Identification Number, which is listed in each action. These dockets and the complete submission are available for viewing on https://www.regulations.gov.

On May 22, 1997 (62 FR 27968), the EPA revised the procedures for incorporating by reference, into the CFR, materials approved by the EPA into each state SIP. These changes revised the format for the identification of the SIP in 40 CFR part 52, streamlined the mechanisms for announcing the EPA approval of revisions to a SIP, and streamlined the mechanisms for the EPA's updating of the IBR information contained for each SIP in 40 CFR part 52. The revised procedures also called for the EPA to maintain “SIP Compilations” that contain the federally approved regulations and source-specific permits submitted by each state agency. The EPA generally updates these SIP Compilations on an annual basis. Under the revised procedures, the EPA must periodically publish an informational document in the rules section of the Federal Register notifying the public that updates have been made to a SIP Compilation for a particular state. The EPA began applying the 1997 revised procedures to New Jersey on July 3, 2017, and is providing this notice in accordance with such procedures. See 82 FR 30758 (July 3, 2017).

II. EPA Action

In this action, the EPA is providing notice of an update to the materials incorporated by reference into the New Jersey SIP as of March 31, 2025, and identified in 40 CFR 52.1570(c) and (d). This update includes SIP materials approved by the EPA since the last IBR update. See, 82 FR 30758 (July 3, 2017). The EPA is providing notice of the following corrections to 40 CFR 52.1570(c) and (d):

Changes Applicable to Paragraph (c), EPA-Approved New Jersey State Regulations and Laws

A. Revising the following:

(a) Title 7, Chapter 27, Subchapter 7, Sulfur

(b) Title 7, Chapter 27, Subchapter 7.2(k), Commercial fuel exemption

(c) Title 7, Chapter 27, Subchapter 8, Permits and Certificates for minor facilities (and major facilities without an operating permit)

(d) Title 7, Chapter 27, Subchapter 12, Prevention and Control of Air Pollution Emergencies

(e) Title 7, Chapter 27, Subchapter 14, section 14.1, Control and Prohibition of Air Pollution from Diesel-Powered Motor Vehicles/Definitions

(f) Title 7, Chapter 27, Subchapter 14, section 14.2, Control and Prohibition of Air Pollution from Diesel-Powered Motor Vehicles/Applicability

(g) Title 7, Chapter 27, Subchapter 14, section 14.3, Control and Prohibition of Air Pollution from Diesel-Powered Motor Vehicles/General prohibitions

(h) Title 7, Chapter 27, Subchapter 14, section 14.4, Control and Prohibition of Air Pollution from Diesel-Powered Motor Vehicles/General public highway standards

(i) Title 7, Chapter 27, Subchapter 14, section 14.5, Control and Prohibition of Air Pollution from Diesel-Powered Motor Vehicles/Motor vehicle inspections

(j) Title 7, Chapter 27, Subchapter 14, section 14.6, Control and Prohibition of Air Pollution from Diesel-Powered Motor Vehicles/Motor vehicle standards

(k) Title 7, Chapter 27, Subchapter 14, section 14.7, Control and Prohibition of Air Pollution from Diesel-Powered Motor Vehicles/Licensed emissions inspectors

(l) Title 7, Chapter 27, Subchapter 14, section 14.10, Control and Prohibition of Air Pollution from Diesel-Powered Motor Vehicles/Penalties

(m) Title 7, Chapter 27, Subchapter 14, appendix, Control and Prohibition of Air Pollution from Diesel-Powered Motor Vehicles/appendix

(n) Title 7, Chapter 27, Subchapter 15, Control and Prohibition of Air Pollution from Gasoline-Fueled Motor Vehicles/Definition

(o) Title 7, Chapter 27, Subchapter 16, Control and Prohibition of Air Pollution by Volatile Organic Compounds

(p) Title 7, Chapter 27, Subchapter 17, Control and Prohibition of Air Pollution by Toxic Substances

(q) Title 7, Chapter 27, Subchapter 18, Control and Prohibition of Air Pollution from New or Altered Sources Affecting Ambient Air Quality (Emission Offset Rules)

(r) Title 7, Chapter 27, Subchapter 19 Control and Prohibition of Air Pollution from Oxides of Nitrogen

(s) Title 7, Chapter 27, Subchapter 21, Emission Statements

(t) Title 7, Chapter 27A, Subchapter 3, section 3.10, Civil Administrative Penalties for Violations of Rules Adopted Pursuant to the Act

(u) Title 7, Chapter 27B, Subchapter 4, sections 4.1-4.3 and sections 4.6-4.8, Air Test Method 4: Testing Procedures for Diesel-Powered Motor Vehicles

(v) Title 7, Chapter 27B, Subchapter 5, Air Test Method 5: Testing Procedures for Gasoline-Fueled Motor Vehicles

(w) Title 13, Chapter 20, Subchapters 7.1-7.6, Vehicle Inspections

(x) Title 13, Chapter 20, Subchapter 26, sections 26.2 and 26.11-12 and 26.16-17, Compliance with Diesel Emission Standards and Equipment, Periodic Inspection Program for Diesel Emissions, and Self-Inspection of Certain Classes of Motor Vehicles

(y) Title 13, Chapter 20, Subchapter 32, Inspection Standards and Test Procedures to be Used by Official Inspection Facilities

(z) Title 13, Chapter 20, Subchapter 33, Inspection Standards and Test Procedures to be Used by Licensed Private Inspection Facilities

(aa) Title 13, Chapter 20, Subchapter 43, Enhanced Motor Vehicle Inspection and Maintenance Program

(ab) Title 13, Chapter 20, Subchapter 44, Private Inspection Facility Licensing

(ac) N.J.S.A. 52:13D-14, New Jersey's Conflict of Interest Law

(ad) N.J.S.A. 52:13D-16(a)-(b), New Jersey's Conflict of Interest Law

(ae) N.J.S.A. 52:13D-21(n), New Jersey's Conflict of Interest Law

B. Removing the following:

(a) Title 7, Chapter 27, Subchapter 8, Permits and Certificates, Hearings, and Confidentiality

(b) Title 7, Chapter 27, section 8.1, Definitions

(c) Title 7, Chapter 27, section 8.2, Applicability

(d) Title 7, Chapter 27, section 8.11, Permits and Certificates, Hearings, and Confidentiality

(e) Title 7, Chapter 27, Subchapter 30, Clean Air Interstate Rule (CAIR) NOx Trading Program

(f) Title 7, Chapter 27, Subchapter 31, NOx Budget Program

(g) Title 7, Chapter 27, Subchapter 34, TBAC Emissions Reporting

C. No changes to the following:

(a) Title 7, Chapter 26, Subchapter 2A

(b) Title 7, Chapter 27, Subchapter 1

(c) Title 7, Chapter 27, Subchapter 2

(d) Title 7, Chapter 27, Subchapter 3

(e) Title 7, Chapter 27, Subchapter 4

(f) Title 7, Chapter 27, Subchapter 5

(g) Title 7, Chapter 27, Subchapter 6

(h) Title 7, Chapter 27, Subchapter 9

(i) Title 7, Chapter 27, Subchapter 10

(j) Title 7, Chapter 27, Subchapter 11

(k) Title 7, Chapter 27, Subchapter 13

(l) Title 7, Chapter 27, Subchapter 23

(m) Title 7, Chapter 27, Subchapter 24

(n) Title 7, Chapter 27, Subchapter 25

(o) Title 7, Chapter 27, Subchapter 26

(p) Title 7, Chapter 27, Subchapter 29

(q) Title 7, Chapter 27B, Subchapter 3

(r) Title 13, Chapter 20, Subchapter 24, section 20

(s) Title 13, Chapter 20, Subchapter 28, sections 28.3, 28.4 and 28.6

(t) Title 13, Chapter 20, Subchapter 29, sections 29.1, 29.2 and 29.3

(u) Title 13, Chapter 20, Subchapter 45

(v) Title 13, Chapter 21, Subchapter 5, section 5.12

(w) Title 13, Chapter 21, Subchapter 15, sections 15.8 and 15.12

(x) Title 16, Chapter 53

(y) Title 39, Chapter 8, Subchapter 1

(z) Title 39, Chapter 8, Subchapter 2

(aa) Title 39, Chapter 8, Subchapter 3

Changes Applicable to Paragraph (d), EPA-Approved New Jersey Source-Specific Provisions

A. Adding the following:

(a) Transcontinental Gas Pipelines Corp., LNG Station 240, PI 02626

(b) Joint Base McGuire-Dix-Lakehurst (Lakehurst, NJ), BOP 15001

(c) Gerdau Ameristeel Sayreville, PI 18052, BOP 150001, U2, 2

(d) CMC Steel New Jersey, PI 18052, BOP 180001, U2, 2

(e) Paulsboro Refinery, PI 55829, BOP 180002, U900

(f) Buckeye Port Reading Terminal, PI 17996, BOP 160001, U8

(g) Buckeye Pennsauken Terminal, PI 51606, BOP 130002, U1

(h) Phillips 66 Company Linden, PI 41805, BOP 170004, U16

(i) CMC Steel, PI 18052, BOP 150002, U1

B. No changes to the following:

(a) Johnson Matthey

(b) Sandoz Pharmaceuticals Corporation

(c) PSEG Fossil Hudson Generation Station

(d) Conoco Phillips (Facility is now Phillips 66.)

(e) Vineland Municipal Electric Utility—Howard M. Down

(f) BL England Generating Station (Facility is now RC Cape May.)

(g) Atlantic States Cast Iron Pipe Company

(h) Trigen-Trenton Energy Co

(i) PSE&G Nuclear Hope Creek and Salem Generating Stations Cooling Tower

(j) Co-Steel Corp of Sayreville (Formerly New Jersey Steel Corporation)

III. Good Cause Exemption

The EPA has determined that this action falls under the “good cause” exemption in section 553(b)(3)(B) of the Administrative Procedure Act (APA) which, upon finding “good cause,” authorizes agencies to dispense with public participation and section 553(d)(3) which allows an agency to make an action effective immediately (thereby avoiding the 30-day delayed effective date otherwise provided for in the APA). This administrative action simply codifies provisions which are already in effect as a matter of law in Federal and approved state programs, makes typographical/ministerial revisions to the tables in the CFR, and makes ministerial changes to the prefatory heading to the tables in the CFR. Under section 553(b)(3)(B) of the APA, an agency may find good cause where procedures are “impracticable, unnecessary, or contrary to the public interest.” Public comment for this administrative action is “unnecessary” and “contrary to the public interest” since the codification (and corrections) only reflect existing law. Immediate notice of this action in the Federal Register benefits the public by providing the public notice of the updated New Jersey SIP Compilation and notice of corrections to the New Jersey “Identification of Plan” portion of the CFR. Further, pursuant to section 553(d)(3), making this action immediately effective benefits the public by immediately updating both the SIP Compilation and the CFR “Identification of plan” section (which includes table entry corrections).

IV. Incorporation by Reference

In this rule, the EPA is finalizing regulatory text that includes incorporation by reference. In accordance with requirements of 1 CFR 51.5, the EPA is finalizing the incorporation by reference of regulations promulgated by New Jersey, previously approved by the EPA and federally effective as of March 31, 2025, contained in New Jersey SIP Compilation. The EPA has made, and will continue to make, these materials generally available through https://www.regulations.gov and at the EPA Region 2 Office (please contact the person identified in the FOR FURTHER INFORMATION CONTACT section of this preamble for more information).

V. Statutory and Executive Order Review

Under the Clean Air Act (CAA), the Administrator is required to approve a SIP submission that complies with the provisions of the Act and applicable Federal regulations. 42 U.S.C. 7410(k); 40 CFR 52.02(a). Thus, in reviewing SIP submissions, EPA's role is to approve State choices, provided that they meet the criteria of the CAA. Accordingly, this final rule and notification of administrative change does not impose additional requirements beyond those imposed by the State law. For that reason, this action:

• Is not a significant regulatory action subject to review by the Office of Management and Budget under Executive Orders 12866 (58 FR 51735, October 4, 1993);

• Is not subject to Executive Order 14192 (90 FR 9065, February 6, 2025) because SIP actions are exempt from review under Executive Order 12866:

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where the EPA or an Indian Tribe has demonstrated that a Tribe has jurisdiction. In those areas of Indian country, the rule does not have Tribal implications, and it will not impose substantial direct costs on Tribal governments or preempt Tribal law as specified by Executive Order 13175 (65 FR 67249, November 9, 2000).

This action is subject to the Congressional Review Act (CRA), and the EPA will submit a rule report to each House of the Congress and the Comptroller General of the United States. This action is not a “major rule” as defined by 5 U.S.C. 804(2).

Under section 307(b)(1) of the CAA, petitions for judicial review of this action must be filed in the United States Court of Appeals for the appropriate circuit by September 15, 2025. Filing a petition for reconsideration by the Administrator of this final rule does not affect the finality of this action for the purposes of judicial review nor does it extend the time within which a petition for judicial review may be filed and shall not postpone the effectiveness of such rule or action. This action may not be challenged later in proceedings to enforce its requirements (see section 307(b)(2)).

List of Subjects in 40 CFR Part 52

Environmental protection, Air pollution control, Incorporation by reference.

Authority: 42 U.S.C. 7401 et seq.

Michael Martucci,
Regional Administrator, Region 2.

For the reasons stated in the preamble, the EPA amends 40 CFR part 52 as follows:

PART 52—APPROVAL AND PROMULGATION OF IMPLEMENTATION PLANS

1. The authority citation for part 52 continues to read as follows:

Authority: 42 U.S.C. 7401 et seq.

Subpart FF—New Jersey

2. In § 52.1570, revise paragraphs (b)(1) and (3), (c), and (d) to read as follows:

§ 52.1570 Identification of plan.

* * * * *

(b) * * *

(1) Material listed in paragraphs (c) and (d) of this section with an EPA approval date as of March 31, 2025, was approved for incorporation by reference by the Director of the Federal Register in accordance with 5 U.S.C. 552(a) and 1 CFR part 51. Material is incorporated as it exists on the date of the approval and notification of any change in the material will be published in the Federal Register. Entries in paragraphs (c) and (d) of this section with the EPA approval dates after March 31, 2025, have been approved by EPA for inclusion in the State implementation plan and for incorporation by reference into the plan as it is contained in this section, and will be considered by the Director of the Federal Register for approval in the next update to the SIP compilation.

* * * * *

(3) Copies of the materials incorporated by reference into the state implementation plan may be inspected at the Environmental Protection Agency, Region 2, Air Programs Branch, 290 Broadway, New York, New York 10007. To obtain the material, please call the Regional Office at 212-637-3322. You may view material with an approval date as of March 31, 2025, at the National Archives and Records Administration (NARA). For information on the availability of this material at NARA, visit https://www.archives.gov/federal-register/cfr/ibr-locations or email fr.inspection@nara.gov.

(c) EPA approved regulations.

EPA-Approved New Jersey State Regulations and Laws
State citation | Title/subject | State effective date | EPA approval date | Comments
Title 7, Chapter 26, Subchapter 2A | Additional, Specific Disposal Regulations for Sanitary Landfills | June 1, 1987 | June 29, 1990, 55 FR 26687
Title 7, Chapter 27, Subchapter 1 | General Provisions | May 1, 1956 | May 31, 1972, 37 FR 10880
Title 7, Chapter 27, Subchapter 2 | Control and Prohibition of Open Burning | June 8, 1981 | September 30, 1981, 46 FR 47779
Title 7, Chapter 27, Subchapter 3 | Control and Prohibition of Smoke from Combustion of Fuel | October 12, 1977 | January 27, 1984, 49 FR 3463
Title 7, Chapter 27, Subchapter 4 | Control and Prohibition of Particles from Combustion of Fuel | April 20, 2009 | August 3, 2010, 75 FR 45483
Title 7, Chapter 27, Subchapter 5 | Prohibition of Air Pollution | October 12, 1977 | January 27, 1984, 49 FR 3463
Title 7, Chapter 27, Subchapter 6 | Control and Prohibition of Particles from Manufacturing Processes (except section 6.5) | May 23, 1977 | January 26, 1979, 44 FR 5425 | Section 6.5, “Variances,” is not approved (40 CFR 52. 52.1587(c)(20) and 52.1604(a)). Any State-issued variances must be formally incorporated as SIP revisions if EPA is to be bound to their provisions (40 CFR 52.1604(a)).
Title 7, Chapter 27, Subchapter 7 | Sulfur | March 1, 1967 | May 31, 1972, 37 FR 10880 | Subchapter 7.2(k) is no longer approved due to EPA action on August 1, 2022, 87 FR 46890.
Title 7, Chapter 27, Subchapter 7.2(k) | Commercial fuel exemption | November 6, 2017 | August 1, 2022, 87 FR 46890
Title 7, Chapter 27, Subchapter 8 | Permits and Certificates for minor facilities (and major facilities without an operating permit) | August 23, 2018 | February 28, 2025, 90 FR 10872 | • Section 8.1 was previously approved into the State's Federally approved SIP on November 28, 2023 (88 FR 83036). • The following provisions are not approved: (1) five odor provisions at 8.2(d)(3)(ii)(2), 8.2(e)(2)(ii), 8.3(j), 8.4(k)(2), and 8.4(q); as well as (2) an affirmative defense provision at 8.3(n).
Title 7, Chapter 27, Subchapter 9 | Sulfur in Fuels | September 20, 2010 | January 3, 2012, 77 FR 19 | Sulfur dioxide “bubble” permits issued by the State pursuant to section 9.2 and not waived under the provisions of section 9.4 become applicable parts of the SIP only after receiving EPA approval as a SIP revision.
Title 7, Chapter 27, Subchapter 10 | Sulfur in Solid Fuels | April 20, 2009 | August 3, 2010, 75 FR 45483 | Notification of “large zone 3 coal conversions” must be provided to EPA (40 CFR 52.1601(b)).
Title 7, Chapter 27, Subchapter 11 | Incinerators | August 15, 1968 | May 31, 1972, 37 FR 10880
Title 7, Chapter 27, Subchapter 12 | Prevention and Control of Air Pollution Emergencies | May 20, 1974 | May 30, 2018, 83 FR 24661
Title 7, Chapter 27, Subchapter 13 | Ambient Air Quality Standards | June 25, 1985 | November 25, 1986, 51 FR 42565
Title 7, Chapter 27, Subchapter 14, section 14.1 | Control and Prohibition of Air Pollution from Diesel-Powered Motor Vehicles/Definitions | October 3, 2016 | May 9, 2018, EPA approval finalized at 83 FR 21174
Title 7, Chapter 27, Subchapter 14, section 14.2 | Control and Prohibition of Air Pollution from Diesel-Powered Motor Vehicles/Applicability | October 3, 2016 | May 9, 2018, EPA approval finalized at 83 FR 21174
Title 7, Chapter 27, Subchapter 14, section 14.3 | Control and Prohibition of Air Pollution from Diesel-Powered Motor Vehicles/General prohibitions | October 3, 2016 | May 9, 2018, EPA approval finalized at 83 FR 21174
Title 7, Chapter 27, Subchapter 14, section 14.4 | Control and Prohibition of Air Pollution from Diesel-Powered Motor Vehicles/General public highway standards | October 3, 2016 | May 9, 2018, EPA approval finalized at 83 FR 21174
Title 7, Chapter 27, Subchapter 14, section 14.5 | Control and Prohibition of Air Pollution from Diesel-Powered Motor Vehicles/Motor vehicle inspections | October 3, 2016 | May 9, 2018, EPA approval finalized at 83 FR 21174
Title 7, Chapter 27, Subchapter 14, section 14.6 | Control and Prohibition of Air Pollution from Diesel-Powered Motor Vehicles/Motor vehicle standards | October 3, 2016 | May 9, 2018, EPA approval finalized at 83 FR 21174
Title 7, Chapter 27, Subchapter 14, section 14.7 | Control and Prohibition of Air Pollution from Diesel-Powered Motor Vehicles/Licensed emissions inspectors | October 3, 2016 | May 9, 2018, EPA approval finalized at 83 FR 21174
Title 7, Chapter 27, Subchapter 14, section 14.10 | Control and Prohibition of Air Pollution from Diesel-Powered Motor Vehicles/Penalties | October 3, 2016 | May 9, 2018, EPA approval finalized at 83 FR 21174
Title 7, Chapter 27, Subchapter 14, appendix | Control and Prohibition of Air Pollution from Diesel-Powered Motor Vehicles/appendix | October 3, 2016 | May 9, 2018, EPA approval finalized at 83 FR 21174
Title 7, Chapter 27, Subchapter 15 | Control and Prohibition of Air Pollution from Gasoline-Fueled Motor Vehicles/Definition | October 3, 2016 | May 9, 2018, EPA approval finalized at 83 FR 21174
Title 7, Chapter 27, Subchapter 16 | Control and Prohibition of Air Pollution by Volatile Organic Compounds | January 16, 2018 | November 28, 2023, 88 FR 83036
Title 7, Chapter 27, Subchapter 17 | Control and Prohibition of Air Pollution by Toxic Substances | January 16, 2018 | November 28, 2023, 88 FR 83036
Title 7, Chapter 27, Subchapter 18 | Control and Prohibition of Air Pollution from New or Altered Sources Affecting Ambient Air Quality (Emission Offset Rules) | November 6, 2017 | November 28, 2023, 88 FR 83036
Title 7, Chapter 27, Subchapter 19 | Control and Prohibition of Air Pollution by Oxides of Nitrogen | January 16, 2018 | November 28, 2023, 88 FR 83036 | Subchapter 19 is approved into the SIP except for the following provisions: (1) Phased compliance plan through repowering in section 19.21 that allows for implementation beyond May 1, 1999; and (2) phased compliance plan through the use of innovative control technology in section 19.23 that allows for implementation beyond May 1, 1999.
Title 7, Chapter 27, Subchapter 21 | Emission Statements | January 16, 2018 | November 28, 2023, 88 FR 83036 | Section 7:27-21.3(b)(1) and 7:27-21.3(b)(2) of New Jersey's Emission Statement rule requires facilities to report on the following pollutants to assist the State in air quality planning needs: Hydrochloric acid, hydrazine, methylene chloride, tetrachloroethylene, 1, 1, 1 trichloroethane, carbon dioxide and methane. EPA will not take SIP-related enforcement action on these pollutants.
Title 7, Chapter 27, Subchapter 23 | Prevention of Air Pollution from Architectural Coatings | December 29, 2008 | December 22, 2010, 75 FR 80340
Title 7, Chapter 27, Subchapter 24 | Prevention of Air Pollution from Consumer Products | December 29, 2008 | December 22, 2010, 75 FR 80340
Title 7, Chapter 27, Subchapter 25 | Control and Prohibition of Air Pollution by Vehicular Fuels | December 29, 2008 | December 22, 2010, 75 FR 80340
Title 7, Chapter 27, Subchapter 26 | Prevention of Air Pollution from Adhesives, Sealants, Adhesive Primers and Sealant Primers | December 29, 2008 | December 22, 2010, 75 FR 80340
Title 7, Chapter 27, Subchapter 29 | Low Emission Vehicle (LEV) Program | January 17, 2006 | February 13, 2008, 73 FR 8200 | In section 29.13(g), Title 13, Chapter 1, Article 2, section 1961.1 of the California Code of Regulations relating to greenhouse gas emission standards, is not incorporated into the SIP.
Title 7, Chapter 27A, Subchapter 3, section 3.10 | Civil Administrative Penalties for Violations of Rules Adopted Pursuant to the Act | January 16, 2018 | November 28, 2023, 88 FR 83036
Title 7, Chapter 27B, Subchapter 3 | Air Test Method 3: Sampling and Analytic Procedures for the Determination of Volatile Organic Compounds from Source Operations | June 20, 1994 | August 7, 1997, 62 FR 42412
Title 7, Chapter 27B, Subchapter 4, section 4.1 | Air Test Method 4: Testing Procedures for Diesel-Powered Motor Vehicles | October 3, 2016 | May 9, 2018, EPA approval finalized at 83 FR 21174
Title 7, Chapter 27B, Subchapter 4, section 4.2 | Air Test Method 4: Testing Procedures for Diesel-Powered Motor Vehicles | October 3, 2016 | May 9, 2018, EPA approval finalized at 83 FR 21174
Title 7, Chapter 27B, Subchapter 4, section 4.3 | Air Test Method 4: Testing Procedures for Diesel-Powered Motor Vehicles | October 3, 2016 | May 9, 2018, EPA approval finalized at 83 FR 21174
Title 7, Chapter 27B, Subchapter 4, section 4.6 | Air Test Method 4: Testing Procedures for Diesel-Powered Motor Vehicles | October 3, 2016 | May 9, 2018, EPA approval finalized at 83 FR 21174
Title 7, Chapter 27B, Subchapter 4, section 4.7 | Air Test Method 4: Testing Procedures for Diesel-Powered Motor Vehicles | October 3, 2016 | May 9, 2018, EPA approval finalized at 83 FR 21174
Title 7, Chapter 27B, Subchapter 4, section 4.8 | Air Test Method 4: Testing Procedures for Diesel-Powered Motor Vehicles | October 3, 2016 | May 9, 2018, EPA approval finalized at 83 FR 21174
Title 7, Chapter 27B, Subchapter 5 | Air Test Method 5: Testing Procedures for Gasoline-Fueled Motor Vehicles | October 3, 2016 | May 9, 2018, EPA approval finalized at 83 FR 21174
Title 13, Chapter 20, Subchapter 7.1 | Vehicle Inspections | April 26, 2016 | May 9, 2018, EPA approval finalized at 83 FR 21174
Title 13, Chapter 20, Subchapter 7.2 | Vehicle Inspections | April 26, 2016 | May 9, 2018, EPA approval finalized at 83 FR 21174
Title 13, Chapter 20, Subchapter 7.3 | Vehicle Inspections | April 26, 2016 | May 9, 2018, EPA approval finalized at 83 FR 21174
Title 13, Chapter 20, Subchapter 7.4 | Vehicle Inspections | April 26, 2016 | May 9, 2018, EPA approval finalized at 83 FR 21174
Title 13, Chapter 20, Subchapter 7.5 | Vehicle Inspections | April 26, 2016 | May 9, 2018, EPA approval finalized at 83 FR 21174
Title 13, Chapter 20, Subchapter 7.6 | Vehicle Inspections | April 26, 2016 | May 9, 2018, EPA approval finalized at 83 FR 21174
Title 13, Chapter 20, Subchapter 24, section 20 | Motorcycles | October 19, 2009 | March 15, 2012, 77 FR 15263
Title 13, Chapter 20, Subchapter 26, section 26.2 | Compliance with Diesel Emission Standards and Equipment, Periodic Inspection Program for Diesel Emissions, and Self-Inspection of Certain Classes of Motor Vehicles | April 26, 2016 | May 9, 2018, EPA approval finalized at 83 FR 21174
Title 13, Chapter 20, Subchapter 26, section 26.11 | Compliance with Diesel Emission Standards and Equipment, Periodic Inspection Program for Diesel Emissions, and Self-Inspection of Certain Classes of Motor Vehicles | April 26, 2016 | May 9, 2018, EPA approval finalized at 83 FR 21174
Title 13, Chapter 20, Subchapter 26, section 26.12 | Compliance with Diesel Emission Standards and Equipment, Periodic Inspection Program for Diesel Emissions, and Self-Inspection of Certain Classes of Motor Vehicles | April 26, 2016 | May 9, 2018, EPA approval finalized at 83 FR 21174
Title 13, Chapter 20, Subchapter 26, section 26.16 | Compliance with Diesel Emission Standards and Equipment, Periodic Inspection Program for Diesel Emissions, and Self-Inspection of Certain Classes of Motor Vehicles | April 26, 2016 | May 9, 2018, EPA approval finalized at 83 FR 21174
Title 13, Chapter 20, Subchapter 26, section 26.17 | Compliance with Diesel Emission Standards and Equipment, Periodic Inspection Program for Diesel Emissions, and Self-Inspection of Certain Classes of Motor Vehicles | April 26, 2016 | May 9, 2018, EPA approval finalized at 83 FR 21174
Title 13, Chapter 20, Subchapter 28, sections 28.3, 28.4 and 28.6 | Inspection of New Motor Vehicles | October 19, 2009 | March 15, 2012, 77 FR 15263
Title 13, Chapter 20, Subchapter 29, sections 29.1, 29.2 and 29.3 | Mobile Inspection Unit | October 19, 2009 | March 15, 2012, 77 FR 15263
Title 13, Chapter 20, Subchapter 32 | Inspection Standards and Test Procedures to be Used by Official Inspection Facilities | April 26, 2016 | May 9, 2018, EPA approval finalized at 83 FR 21174
Title 13, Chapter 20, Subchapter 33 | Inspection Standards and Test Procedures to be Used by Licensed Private Inspection Facilities | April 26, 2016 | May 9, 2018, EPA approval finalized at 83 FR 21174
Title 13, Chapter 20, Subchapter 43 | Enhanced Motor Vehicle Inspection and Maintenance Program | April 26, 2016 | May 9, 2018, EPA approval finalized at 83 FR 21174
Title 13, Chapter 20, Subchapter 44 | Private Inspection Facility Licensing | April 26, 2016 | May 9, 2018, EPA approval finalized at 83 FR 21174
Title 13, Chapter 20, Subchapter 45 | Motor Vehicle Emission Repair Facility Registration | October 19, 2009 | March 15, 2012, 77 FR 15263
Title 13, Chapter 21, Subchapter 5, section 5.12 | Registration Plate Decals | December 6, 1999 | January 22, 2002, 67 FR 2811
Title 13, Chapter 21, Subchapter 15, sections 15.8 and 15.12 | New Jersey Licensed Motor Vehicle Dealers | October 19, 2009 | March 15, 2012, 77 FR 15263
Title 16, Chapter 53 | Autobus Specifications | September 26, 1983 | June 13, 1986, 51 FR 21549 | Only sections 3.23, 3.24, 3.27, 6.15, 6.21, 6.30, 7.14, 7.17, 7.23, 8.15, 8.22, 8.25 are approved.
Title 39, Chapter 8, Subchapter 1 | Motor Vehicle Inspections Exceptions | July 1, 2010 | March 15, 2012, 77 FR 15263
Title 39, Chapter 8, Subchapter 2 | Inspection of Motor Vehicles; Rules, Regulations | July 1, 2010 | March 15, 2012, 77 FR 15263
Title 39, Chapter 8, Subchapter 3 | Certificate of Approval, Issuance; Owner's Obligation for Safety | July 1, 2010 | March 15, 2012, 77 FR 15263
N.J.S.A. 52:13D-14 | New Jersey's Conflict of Interest Law | January 11, 1972 | May 30, 2018, 83 FR 24661
N.J.S.A.52:13D-16(a)-(b) | New Jersey's Conflict of Interest Law | September 16, 1996 | May 30, 2018, 83 FR 24661
N.J.S.A. 52:13D-21(n) | New Jersey's Conflict of Interest Law | March 15, 2006 | May 30, 2018, 83 FR 24661

(d) EPA approved State source-specific requirements.

EPA-Approved New Jersey Source-Specific Provisions
Name of source | Identifier No. | State effective date | EPA approval date | Comments
Johnson Matthey | 55270 | June 13, 1995 | January 17, 1997, 62 FR 2581 | NOX RACT Facility Specific NOX Emission Limits NJAC 7:27-9.13. Multi-chamber metals recovery furnace, installation of low NOX burner.
Sandoz Pharmaceuticals Corporation | 104855 | March 23, 1995 | January 17, 1997, 62 FR 2581 | NOX RACT Facility Specific NOX Emission Limits NJAC 7:27-9.13. Controlled air combustion small trash from fired boiler energy recovery system.
PSEG Fossil Hudson Generation Station | BOP110001 | March 8, 2011 | January 3, 2012, 77 FR 19 | NOX, SO2, PM10 BART source specific control units: U1-OS1 (cyclone boiler (shutdown)), U1-OS2 (dry bottom wall-fired boiler), U15-OS(coal receiving system), U16-OS (coal reclaim system).
Conoco Phillips (Facility is now Phillips 66.) | BOP110001 | September 21, 2011 | January 3, 2012, 77 FR 19 | NOX, SO2 and PM10 BART source specific control units: OS1-E241, OS2-E243, OS3-E245, OS4-E246, OS5-E247, OS6-E248, OS7-E249, OS8-E250, OS11-E242, OS13-E253, and OS15-E258 (process heaters).
Vineland Municipal Electric Utility—Howard M. Down | BOP110001 | September 26, 2011 | January 3, 2012, 77 FR 19 | NOX, SO2 and PM10 BART source specific control units: U10-OS2(fuel oil boiler retired September 1, 2012), U10-OS3 (turbine (shutdown)), and U22-OS (emergency generator).
BL England Generating Station (Facility is now RC Cape May.) | BOP100003 | December 16, 2010 | January 3, 2012, 77 FR 19 | NOX, SO2 and PM10 BART source specific control units: U1-OS1(wet bottom coal-fired boiler (shutdown)), U2-OS1 (cyclone wet bottom coal fired boiler), U3-OS1 (oil-fired tangential boiler), U6-OS1 (emergency fire water pump engine), U7-OS1, U7-OS2, U7-OS4, U7-OS5, U7-OS6, U7-OS7,U7-OS10, U7-OS11, U7-OS12 (coal handling systems) and U8-OS1 (cooling tower).
Atlantic States Cast Iron Pipe Company | 85004 | November 22, 1994 | October 20, 1998, 63 FR 55949 | Approving NOX RACT Source Specific regulations NJAC 7:27-19.13 Cupola and Annealing Oven processes. Effective date 12/21/98.
Trigen-Trenton Energy Co | 61015 | January 11, 2007 | July 16, 2008, 73 FR 40752 | Alternative NOX Emission Limit pursuant to NJAC 7:27-19.13 For 2 Cooper Bessemer Distillate Oil or Dual Fired 4 stroke Diesel Internal Combustion Engines.
PSE&G Nuclear Hope Creek and Salem Generating Stations Cooling Tower | BOP050003 | August 7, 2007 Significant Modification Approval | April 1, 2009, 74 FR 14734 | TSP/PM 10 Source Specific Variance to SIP NJAC 7:27-6.5 Cooling Tower Unit 24, OS1 Effective Date 5/1/2009.
Co-Steel Corp of Sayreville (Formerly New Jersey Steel Corporation) | 15076 | September 3, 1997 | November 12, 2003, 68 FR 63991 | NOX Source specific emission limit under NJAC 7:27-19.13 for Electric arc furnace, melt shop metallurgy and billet reheat furnace sources. Effective date 12/13/2003.
Transcontinental Gas Pipelines Corp., LNG Station 240 | 02626 | June 12, 2014 | August 10, 2017, 82 FR 37308 | Alternate NOX Emission Limit and other requirements pursuant to NJAC 7:27-19.13 for four natural gas-fired water bath heaters ((U7-U10).
Joint Base McGuire-Dix-Lakehurst (Lakehurst, NJ) | BOP15001 | August 26, 2016 | August 10, 2017, 82 FR 37308 | Alternate NOX Emission Limit and other requirements pursuant to NJAC 7:27-19.13 for two natural gas-fired boilers (Nos 2 and 3).
Gerdau Ameristeel Sayreville | Program Interest 18052; Activity Number BOP 150001; Emission Unit U2; Operating Scenario OS301; Ref #2 | March 26, 2018 | May 30, 2019, 84 FR 24980 | None.
CMC Steel New Jersey | Program Interest 18052; Activity Number BOP 180001; Emission Unit U2; Operating Scenario OS301; Ref #2 | December 5, 2018 | May 30, 2019, 84 FR 24980 | New ownership from Gerdau Ameristeel Sayreville to Commercial Metal Company (CMC).
Paulsboro Refinery | PI 55829; BOP 180002 U900 | 6/26/2018 | 10/11/2019, 84 FR 54785 | The External floating roof tanks (EFRTs) that are not being domed include tank numbers 725, 802, 1023, 1027, 2869, 2940, 2941, 3174, S8O, S8I, and S82. The EFRTs that may complete doming after the regulatory deadline include tank numbers 1063, 1116, 1320, 1065, and 1066.
Buckeye Port Reading Terminal | PI 17996, BOP 160001 U8 | 6/13/2018 | 10/11/2019, 84 FR 54785 | The EFRTs that are not being domed include tank numbers 7930, 7934, 7937, and 7945. The EFRTs that may complete doming after the regulatory deadline include tank numbers 1219 and 1178.
Buckeye Pennsauken Terminal | PI 51606, BOP 130002 U1 | 8/21/2014 | 10/11/2019, 84 FR 54785 | The EFRT that are not being domed include tank number 2018.
Phillips 66 Company Linden | PI 41805, BOP 170004 U16 | 1/26/2018 | 10/11/2019, 84 FR 54785 | The EFRTs that are not being domed include tank numbers T52, T105, T119, T134, T244, T349, T350, T354, T355, and T356. The EFRT that may complete doming after the regulatory deadline include tank number T234.
CMC Steel New Jersey | BOP 150002; PI 18052; Emission Unit U1 | 5/1/2019 | 2/17/2021 | None.

* * * * *

[FR Doc. 2025-13333 Filed 7-15-25; 8:45 am]

BILLING CODE 6560-50-P